DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favour of relief.

Southern California Regional Rail Authority ( Docket Number FRA-2003-15144 )

The Southern California Regional Rail Authority (SCRRA) seeks a temporary waiver of compliance with the Locomotive Safety Standards, 49 CFR 229.125(e)(iii), as it pertains to the requirement for manual activation and deactivation of flashing auxiliary lights by the locomotive engineer. The waiver, if granted, is for SCRRA locomotives and control car locomotives being operated in passenger service by Amtrak crews over Burlington Northern Santa Fe Railway track in Southern California under the name Metrolink. The locomotives and control car locomotives are equipped with a feature that automatically activates the change from continuously illuminated auxiliary lights to the flashing mode when the audible warning device (horn) or crossing bell are activated. Once deactivated, the flashing auxiliary lights will continue to flash for an additional 20 to 30 seconds. The waiver, if granted, would allow the automatic activation feature of the locomotive flashing auxiliary lights to time out when deactivated.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2003-15144) and must be submitted to the Docket Clerk, DOT Central Docket Management Facility, Room Pl-401, 400 7th Street, SW., Washington, DC. 20590-0001. Communications received within 45 days of the date of this notice will be considered by FRA before final action is taken. Comments received after that date will be considered as far as practicable. All written communications concerning these proceedings are available for examination during regular business hours (9 a.m.-5 p.m.) at the above facility. FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov. All documents in the public docket are also available for inspection and copying on the Internet at the docket facility's Web site.

Issued in Washington, DC, on June 19, 2003.
Grady C. Cothen, Jr.,
Deputy Associate Administrator for Safety Standards and Program Development.

[FR Doc. 03-16369 Filed 6-27-03; 8:45 am]

BILLING CODE 4910-00-P